DEPARTMENT OF ENERGY

Federal Energy Regulatory Commission

Combined Notice of Filings #1

Take notice that the Commission received the following electric rate filings:

Docket Numbers: ER10-2984-037.

Applicants: Merrill Lynch Commodities, Inc.

Description: Notice of Non-Material Change in Status of Merrill Lynch Commodities, Inc.

Filed Date: 12/27/17.

Accession Number: 20171227-5016.

Comments Due: 5 p.m. ET 1/17/18.

Docket Numbers: ER10-3254-003.

Applicants: Cooperative Energy Incorporated (An Electric Membership Corporation).

Description: Updated Market Power Analysis of Cooperative Energy Inc. (An Electric Membership Corporation).

Filed Date: 12/22/17.

Accession Number: 20171222-5299.

Comments Due: 5 p.m. ET 2/20/18.

Docket Numbers: ER18-540-000.

Applicants: Westwood Generation, LLC.

Description: Compliance filing: MBRA Tariff to be effective 2/28/2018.

Filed Date: 12/26/17.

Accession Number: 20171226-5080.

Comments Due: 5 p.m. ET 1/16/18.

Docket Numbers: ER18-541-000.

Applicants: Westwood Generation, LLC.

Description: Compliance filing: Reactive Tariff to be effective 2/28/2018.

Filed Date: 12/27/17.

Accession Number: 20171227-5000.

Comments Due: 5 p.m. ET 1/17/18.

Docket Numbers: ER18-542-000.

Applicants: NorthWestern Corporation.

Description: § 205(d) Rate Filing: SA 642 5th Rev—NITSA with General Mills Operations LLC to be effective 3/1/2018.

Filed Date: 12/27/17.

Accession Number: 20171227-5019.

Comments Due: 5 p.m. ET 1/17/18.

Docket Numbers: ER18-543-000.

Applicants: NorthWestern Corporation.

Description: § 205(d) Rate Filing: SA 760 3rd Rev—NITSA with Beartooth Electric Cooperative to be effective 3/1/2018.

Filed Date: 12/27/17.

Accession Number: 20171227-5020.

Comments Due: 5 p.m. ET 1/17/18.

Docket Numbers: ER18-544-000.

Applicants: NorthWestern Corporation.

Description: § 205(d) Rate Filing: SA 666 5th Rev—NITSA with Suiza Dairy Group LLC to be effective 3/1/2018.

Filed Date: 12/27/17.

Accession Number: 20171227-5021.

Comments Due: 5 p.m. ET 1/17/18.

Docket Numbers: ER18-545-000.

Applicants: NorthWestern Corporation.

Description: § 205(d) Rate Filing: SA 767 4th Rev—NITSA with Basin Electric Power Cooperative, Inc. to be effective 3/1/2018.

Filed Date: 12/27/17.

Accession Number: 20171227-5030.

Comments Due: 5 p.m. ET 1/17/18.

Docket Numbers: ER18-546-000.

Applicants: NorthWestern Corporation.

Description: § 205(d) Rate Filing: SA 792 1st Rev—NITSA with Big Horn County Electric Cooperative, Inc. to be effective 3/1/2018.

Filed Date: 12/27/17.

Accession Number: 20171227-5043.

Comments Due: 5 p.m. ET 1/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2017.
Nathaniel J. Davis, Sr.,
Deputy Secretary.

[FR Doc. 2017-28343 Filed 1-2-18; 8:45 am]

BILLING CODE 6717-01-P